INTERNATIONAL TRADE COMMISSION

[Investigation Nos. 701-TA-499-500 and 731-TA-1215-1216, 1221-1223 (Review)]

Oil Country Tubular Goods From India, Korea, Turkey, Ukraine, and Vietnam; Notice of Commission Determinations To Conduct Full Five-Year Reviews

AGENCY: United States International Trade Commission.

ACTION: Notice.

SUMMARY: The Commission hereby gives notice that it will proceed with full reviews pursuant to the Tariff Act of 1930 to determine whether revocation of the countervailing duty orders on oil country tubular goods from India and Turkey and the antidumping duty orders on oil country tubular goods from India, Korea, Turkey, Ukraine, and Vietnam would be likely to lead to continuation or recurrence of material injury within a reasonably foreseeable time. A schedule for the reviews will be established and announced at a later date.

DATES: September 6, 2019.

FOR FURTHER INFORMATION CONTACT: Christopher Watson (202-205-2684), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these reviews may be viewed on the Commission's electronic docket (EDIS) at https://edis.usitc.gov.

For further information concerning the conduct of these reviews and rules of general application, consult the Commission's Rules of Practice and Procedure, part 201, subparts A through E (19 CFR part 201), and part 207, subparts A, D, E, and F (19 CFR part 207).

SUPPLEMENTARY INFORMATION: On September 6, 2019, the Commission determined that it should proceed to conduct full reviews pursuant to section 751(c) of the Tariff Act of 1930 (19 U.S.C. 1675(c)). The Commission found that the domestic interested party group response to its notice of institution (84 FR 25570, June 3, 2019) was adequate. The Commission also found that the respondent interested party group responses to its notice of institution concerning the countervailing duty order on imports from Turkey and the antidumping duty order on imports from Ukraine were adequate and, therefore, determined to proceed with full reviews of those orders. The Commission determined that the respondent interested party group responses to its notice of institution concerning the countervailing and antidumping duty orders on imports from India and the antidumping duty orders on imports from Korea, Turkey, and Vietnam were inadequate with respect to those reviews. The Commission determined, however to conduct full reviews of those orders in order to promote administrative efficiency in light of its determination to conduct full reviews of the countervailing duty order on imports from Turkey and the antidumping duty order on imports from Ukraine. A record of the Commissioners' votes, the Commission's statement on adequacy, and any individual Commissioner's statements will be available from the Office of the Secretary and at the Commission's website.

Authority: These reviews are being conducted under the authority of title VII of the Tariff Act of 1930; this notice is published pursuant to section 207.62 of the Commission's rules.

By order of the Commission.
Issued: September 18, 2019.
Lisa Barton,
Secretary to the Commission.

[FR Doc. 2019-20604 Filed 9-23-19; 8:45 am]

BILLING CODE 7020-02-P